DEPARTMENT OF THE INTERIOR

National Park Service

[NPS-WASO-NAGPRA-NPS0040358; PPWOCRADN0-PCU00RP14.R50000]

Notice of Inventory Completion Amendment: Louisiana State University, Museum of Natural Science, Baton Rouge, LA

AGENCY: National Park Service, Interior.

ACTION: Notice; amendment.

SUMMARY: In accordance with the Native American Graves Protection and Repatriation Act (NAGPRA), the Louisiana State University, Museum of Natural Science (LSUMNS) has amended a Notice of Inventory Completion published in the Federal Register on November 18, 2022. This notice amends the Indian Tribes or Native Hawaiian organizations with cultural affiliation.

DATES: Repatriation of the human remains and associated funerary objects may occur on or after July 16, 2025.

ADDRESSES: Send written requests for repatriation of the human remains and associated funerary objects in this notice to Dr. Irene Martí Gil, LSU Museum of Natural Science, 119 Foster Hall, LSU, Baton Rouge, LA 70803, email imart23@lsu.edu.

SUPPLEMENTARY INFORMATION: This notice is published as part of the National Park Service's administrative responsibilities under NAGPRA. The determinations in this notice are the sole responsibility of the LSUMNS, and additional information on the determinations in this notice, including the results of consultation, can be found in its inventory or related records. The National Park Service is not responsible for the determinations in this notice.

Amendment

This notice amends the determination of cultural affiliation published in a Notice of Inventory Completion in the Federal Register (87 FR 69307-69313, November 18, 2022). Repatriation of the human remains and associated funerary objects in the original notice of inventory completion has not occurred.

After further consultation with the Chitimacha Tribe of Louisiana, they do not wish to be exclusively affiliated with these remains but wish to acknowledge that there is a relationship of shared group identity and geographic and cultural affiliation that can be reasonably traced between the Native American human remains and the Caddo Nation of Oklahoma; Chitimacha Tribe of Louisiana, The Choctaw Nation of Oklahoma, Jena Band of Choctaw Indians, Coushatta Tribe of Louisiana, Mississippi Band of Choctaw Indians, and the Tunica-Biloxi Indian Tribe of Louisiana. Representatives of any other Indian Tribe that believes itself to be culturally affiliated with the human remains and associated funerary objects should contact Dr. Irene Martí Gil before August 1, 2025. Repatriation of the human remains and associated funerary objects may proceed after that date if no additional claimants come forward.

Determinations

The LSUMNS has determined that:

• There is a connection between the human remains and associated funerary objects described in the original notice and the Caddo Nation of Oklahoma; Chitimacha Tribe of Louisiana; Coushatta Tribe of Louisiana; Jena Band of Choctaw Indians; Mississippi Band of Choctaw Indians; The Choctaw Nation of Oklahoma; and the Tunica-Biloxi Indian Tribe.

Requests for Repatriation

Written requests for repatriation of the human remains and associated funerary objects in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in the original notice to a requestor may occur on or after July 16, 2025. If competing requests for repatriation are received, the LSUMNS must determine the most appropriate requestor prior to repatriation. Requests for joint repatriation of the human remains and associated funerary objects are considered a single request and not competing requests. The LSUMNS is responsible for sending a copy of this notice to the Indian Tribes and Native Hawaiian organizations identified in this notice and any other consulting parties.

Authority: Native American Graves Protection and Repatriation Act, 25 U.S.C. 3003, and the implementing regulations, 43 CFR 10.10.

Dated: June 6, 2025.
Melanie O'Brien,
Manager, National NAGPRA Program.

[FR Doc. 2025-11011 Filed 6-13-25; 8:45 am]

BILLING CODE 4312-52-P